DEPARTMENT OF TRANSPORTATION

Federal Aviation Administration

[Summary Notice No. PE-2012-40]

Petition for Exemption; Summary of Petition Received

AGENCY: Federal Aviation Administration (FAA), DOT.

ACTION: Notice of petition for exemption received.

SUMMARY: This notice contains a summary of a petition seeking relief from specified requirements of Title 14, Code of Federal Regulations (CFR) part 25. The purpose of this notice is to improve the public's awareness of, and participation in, this aspect of FAA's regulatory activities. Neither publication of this notice nor the inclusion or omission of information in the summary is intended to affect the legal status of the petition or its final disposition.

DATES: Comments on this petition must identify the petition docket number involved and must be received on or before November 19, 2012.

ADDRESSES: You may send comments identified by Docket Number FAA-2012-0956 using any of the following methods:

• Government-wide rulemaking Web site: Go to http://www.regulations.gov and follow the instructions for sending your comments electronically.

• Mail: Send comments to the Docket Management Facility; U.S. Department of Transportation, 1200 New Jersey Avenue SE., West Building Ground Floor, Room W12-140, Washington, DC 20590.

• Fax: Fax comments to the Docket Management Facility at 202-493-2251.

• Hand Delivery: Bring comments to the Docket Management Facility in Room W12-140 of the West Building Ground Floor at 1200 New Jersey Avenue SE., Washington, DC, between 9 a.m. and 5 p.m., Monday through Friday, except Federal holidays.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Docket: To read background documents or comments received, go to http://www.regulations.gov at any time or to the Docket Management Facility in Room W12-140 of the West Building Ground Floor at 1200 New Jersey Avenue SE., Washington, DC, between 9 a.m. and 5 p.m., Monday through Friday, except Federal holidays.

FOR FURTHER INFORMATION CONTACT: Michael Menkin, ANM-113, Standardization Branch, Federal Aviation Administration, Transport Airplane Directorate, 1601 Lind Ave. SW., Renton, WA 98057; email michael.menkin@FAA.gov; 425-227-2793; fax: 425-227-1320; or Andrea Copeland, ARM-200, Office of Rulemaking, Federal Aviation Administration, 800 Independence Avenue SW.; Washington, DC 20591; email andrea.copeland @faa.gov; (202) 267-8081.

Issued in Washington, DC, on October 22, 2012.
Lirio Liu,
Director, Office of Rulemaking.

Petition for Exemption

Docket No.: FAA-2012-0956.

Petitioner: The Boeing Company.

Section of 14 CFR Affected: § 25.785(j), 25.795(b)(2), (c)(1) and (c)(3), 25.809(a), 25.810(a)(1) 25.857(e), and 25.1447(c)(1).

Description of Relief Sought. The petitioner requests relief from:

1. Restrictions on crew members carried on airplanes with Class E cargo compartments to allow carriage of up to eleven supernumeraries on the Boeing 767-2C freighter and to allow them access to the Class E cargo compartment for the care and inspection of animals;

2. The requirement for escape slides for emergency exists greater than six feet above the ground by using inertial reel descent devices from the forward entry and service doors instead of slides;

3. The requirement that the contact area for inertial reel descent devices be seen from closed doors;

4. The requirement that handholds are provided inside the accessible main deck cargo compartment;

5. Providing a means to prevent passenger incapacitation in the cabin resulting from smoke, fumes, or noxious gases of an explosive or incendiary device;

6. The requirement for a designated location where a bomb or other explosive device could be placed to best protect flight-critical structures and systems from damage in the case of detonation (least risk bomb location);

7. The requirement that the passenger cabin be designed to facilitate searches for an explosive or incendiary device; and

8. The requirement that an auto-presenting oxygen dispensing unit is provided for each supernumerary that is seated or is inside the cargo compartment during flight. Oxygen masks are presented manually instead.

[FR Doc. 2012-26623 Filed 10-29-12; 8:45 am]

BILLING CODE 4910-13-P